DEPARTMENT OF THE INTERIOR

National Park Service

[NPS-MWR-INDU-36591; PS.SMWLA0016.00.1]

Minor Boundary Revision at Indiana Dunes National Park

AGENCY: National Park Service, Interior.

ACTION: Notification of boundary revision.

SUMMARY: The boundary of Indiana Dunes National Park (Park) is modified to include 32.24 acres of donated land located in Porter County, Indiana, immediately adjoining the Park boundary. The National Park Service (NPS) has accepted the land donation from Canonie IDNL Acquisition, LLC, an Indiana Limited Liability Company, in care of the National Park Trust, a nonprofit organization dedicated to preserving parks.

DATES: The effective date of this boundary revision is August 23, 2024.

ADDRESSES: The map depicting this boundary revision is available for inspection at the following locations: National Park Service, Land Resources Program Center, Interior Regions 3, 4, 5, 601 Riverfront Drive, Omaha, NE 68102, and National Park Service, Department of the Interior, 1849 C Street NW, Washington, DC 20240.

FOR FURTHER INFORMATION CONTACT: Acting Chief Eric Giusti, eric_giusti@nps.gov, National Park Service, Land Resources Program Center, Interior Regions 3, 4, 5, 601 Riverfront Drive, Omaha, NE 68102, telephone (304) 350-2560.

SUPPLEMENTARY INFORMATION: Notice is hereby given that, pursuant to 16 U.S.C. 460u through 460u-26, the boundary of Indiana Dunes National Park is modified to include an adjoining tract identified as Tract 116-01, containing 32.24 acres. The boundary revision is depicted on Map No. 626/122887, dated August 2015.

16 U.S.C. 460u-19 specifically provides that, after notifying the House Committee on Natural Resources and the Senate Committee on Energy and Natural Resources, the Secretary of the Interior is authorized to accept the donation of Tract 116-01 and revise the Park boundary to include the tract upon publication of Notice in the Federal Register. The Committees have been notified of this donation and boundary revision. The inclusion of this donated tract will enable NPS to preserve significant wetlands and habitat and to prevent incompatible development of this land located between the present Park boundary and the Park's visitor center.

Herbert Frost,
Regional Director, Interior Regions 3, 4, 5.

[FR Doc. 2024-18928 Filed 8-22-24; 8:45 am]

BILLING CODE 4312-52-P